DEPARTMENT OF DEFENSE

Department of the Navy

Notice of Availability of Record of Decision for the Northwest Training Range Complex

AGENCY: Department of the Navy, DoD.

ACTION: Notice.

SUMMARY: The Department of the Navy (Navy), after carefully weighing the operational and environmental consequences of the Proposed Action, announces its decision to continue to support and conduct current, emerging, and future training and research, development, test, and evaluation activities in the Northwest Training Range Complex (NWTRC) to achieve required levels of operational readiness. This decision allows the Navy to meet its statutory mission to deploy worldwide naval forces equipped and trained to meet existing and emergent threats and to enhance its ability to operate jointly with other components of the armed forces.

In its decision, the Navy considered applicable laws, regulations and executive orders, including an analysis of the effects of its actions outside the United States or its territories under Executive Order (EO) 12114, Environmental Effects Abroad of Major Federal Actions.

The proposed action will be accomplished as set out in Alternative 2, described in the Final Environmental Impact Statement/Overseas Environmental Impact Statement (EIS/OEIS) as the preferred alternative. Implementation of the preferred alternative could begin immediately.

SUPPLEMENTARY INFORMATION: The Record of Decision (ROD) has been distributed to all those individuals who requested a copy of the Final EIS/OEIS and agencies and organizations that received a copy of the Final EIS/OEIS. The complete text of the ROD is available for public viewing on the project Web site at http://www.nwtrangecomplexeis.com/, along with copies of the Final EIS/OEIS and supporting documents. Single copies of the ROD will be made available upon request by contacting: Kimberly Kler, Naval Facilities Engineering Command Northwest, 1101 Tautog Circle, Suite 203, Silverdale, Washington 98315-1101; telephone: 360-396-0927.

Dated: October 26, 2010.
L. R. Almand,
Office of the Judge Advocate General, U.S. Navy, Administrative Law Division, Federal Register Liaison Officer.

[FR Doc. 2010-27598 Filed 11-1-10; 8:45 am]

BILLING CODE 3810-FF-P